DEPARTMENT OF TRANSPORTATION

Federal Aviation Administration

14 CFR Part 71

[Docket No. FAA-2015-0794; Airspace Docket No. 15-ASO-5]

Amendment of Class D Airspace; Jupiter, FL

AGENCY: Federal Aviation Administration (FAA), DOT.

ACTION: Final rule, technical amendment; correction.

SUMMARY: This action corrects an error in the title of a final rule published in the Federal Register on May 1, 2015, amending Class D Airspace at William P. Gwinn Airport, Jupiter, FL. It should read Class D Airspace, not Class E Airspace, and the word Proposed is removed.

DATES: Effective 0901 UTC, June 25, 2015, The Director of the Federal Register approves this incorporation by reference action under title 1, Code of Federal Regulations, part 51, subject to the annual revision of FAA Order 7400.9 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

History

On May 1, 2015, the FAA published a final rule in the Federal Register amending Class D airspace at William P. Gwinn Airport, Jupiter, FL. (80 FR24793). After publication, the FAA found that the title was incorrectly typed as Proposed Amendment of Class E Airspace, Jupiter, FL, instead of Amendment of Class D Airspace, Jupiter, FL. This action makes the correction.

The Class E airspace designations are published in Paragraph 6005 of FAA Order 7400.9Y, dated August 9, 2014, and effective September 15, 2014, which is incorporated by reference in 14 CFR 71.1. The Class E airspace designation listed in this document will be published subsequently in the Order.

Correction to Final Rule

Accordingly, pursuant to the authority delegated to me, Docket No. FAA-2015-0794, amending Class D airspace at William P. Gwinn Airport, Jupiter, FL, as published in the Federal Register on May 1, 2015, (80 FR 24793), FR Doc. 2015-09881, is corrected as follows: On page 24793, column 3, line 39, remove, “Proposed Amendment of Class E Airspace; Jupiter, FL”, and add in its place, “Amendment of Class D Airspace, Jupiter, FL.

Issued in College Park, Georgia, on May 13, 2015.
Joey Medders,
Acting Manager, Operations Support Group, Eastern Service Center, Air Traffic Organization.

[FR Doc. 2015-12356 Filed 5-22-15; 8:45 am]

BILLING CODE 4910-13-P